DEPARTMENT OF ENERGY

Federal Energy Regulatory Commission

[ Project No. 11563-057]

Northern California Power Agency; Notice of Application for Amendment of License and Soliciting Comments, Motions To Intervene, and Protests

July 19, 2010.

Take notice that the following hydroelectric application has been filed with the Commission and is available for public inspection:

a. Application Type: Request for temporary license amendment.

b. Project No.: 11563-057.

c. Date Filed: May 26, 2010, and supplemented on July 12, 2010.

d. Applicant: Northern California Power Agency.

e. Name of Project: Upper Utica Project.

f. Location of Project: On Silver Creek and the North Fork Stanislaus River, in Tuolumne and Alpine Counties, California.

g. Filed Pursuant to: Federal Power Act, 16 U.S.C. 791a-825r.

h. Applicant Contact: Mr. Randy Bowersox, Manager, Hydroelectric Operations, Northern California Power Agency, 477 Bret Harte Drive, Murphys, CA 95247; (209) 728-1387.

i. FERC Contact: Mr. John Aedo, (415) 369-3335, john.aedo@ferc.gov.

j. Deadline for filing comments, motions to intervene, and protest: August 20, 2010.

All documents (original and eight copies) should be filed with: Kimberly D. Bose, Secretary, Federal Energy Regulatory Commission, 888 First Street, NE., Washington, DC 20426.

Comments, protests and interventions may be filed electronically via the Internet in lieu of paper. See, 18 CFR 385.2001(a)(1)(iii) and the instructions on the Commission's Web site at http://www.ferc.gov under the “e-Filing” link. The Commission strongly encourages electronic filings.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency. A copy of any motion to intervene must also be served upon each representative of the Applicant specified in the particular application.

k. Description of Request: The Northern California Power Agency (licensee) is requesting approval for a temporary deviation from minimum surface elevation and minimum water volume limits at Lake Alpine. Article 403 of the project license requires that the licensee maintain Lake Alpine at full pool (elevation 7,302 feet) from June 1 to November 1st or October 15th if early drawdown occurs, to meet minimum flow releases to Silver Creek, downstream of the lake. Article 403 also requires that the licensee maintain a minimum water volume of 2,500 acre feet at Lake Alpine from November 1st or October 15th to June 1st for the protection of overwintering brook and rainbow trout. The licensee requests that it be allowed to partially drawdown Lake Alpine to facilitate repairs to the low level outlet works at the project. The licensee states that the absolute minimum surface pool elevation could reach 7272.6 feet, and would remain partially drawn down throughout the winter, until the reservoir completely refills by June 1, 2011.

l. Locations of the Application: The filing is available for inspection and reproduction at the Commission's Public Reference Room, located at 888 First Street, NE., Room 2A, Washington, DC 20426, or by calling (202) 502-8371. This filing may also be viewed on the Commission's Web site at http://www.ferc.gov using the “eLibrary” link. Enter the docket number (P-11563-057) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, OR “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. 2010-18275 Filed 7-26-10; 8:45 am]

BILLING CODE 6717-01-P